DEPARTMENT OF THE INTERIOR

Fish and Wildlife Service

[FWS-R4-ES-2016-N038]; [FXES11120400000-167-FF04EC1000]

Endangered and Threatened Wildlife and Plants; Availability of Proposed Low-Effect Habitat Conservation Plan, Palmas Home Owners Association, Palmas Del Mar, Humacao, Puerto Rico

AGENCY: Fish and Wildlife Service, Interior.

ACTION: Notice of availability; request for comment/information.

SUMMARY: We, the Fish and Wildlife Service (Service), have received an application for an incidental take permit (ITP) under the Endangered Species Act of 1973, as amended (Act). Palmas del Mar Home Owners Association requests a 10-year ITP. We request public comment on the permit application and accompanying proposed habitat conservation plan (HCP), as well as on our preliminary determination that the plan qualifies as low-effect under the National Environmental Policy Act (NEPA). To make this determination, we used our environmental action statement and low-effect screening form, which are also available for review.

DATES: To ensure consideration, please send your written comments by April 25, 2016.

ADDRESSES: If you wish to review the application and HCP, you may request documents by email, U.S. mail, or phone (see below). These documents are also available for public inspection by appointment during normal business hours at the office below. Send your comments or requests by any one of the following methods.

• Email: marelisa_rivera@fws.gov. Use “Attn: Permit number TE85455B-0” as the subject line of your email.

• Fax: Deputy Field Supervisor, (787) 851-7440, Attn: Permit number TE85455B-0.

• Phone: 787-851-7297, x 206.

• U.S. mail: Field Supervisor, Caribbean Ecological Services Field Office; Attn: Permit Number TE85455B-0; U.S. Fish and Wildlife Service; P.O. Box 491; Boquerón, PR 00622.

• In-person drop-off: You may drop off information or comments during regular business hours at the following office address: Caribbean Ecological Services Field Office; Road 301; Km. 5.1; Boquerón, Puerto Rico.

FOR FURTHER INFORMATION CONTACT: Marelisa Rivera,via telephone at (787) 851-7297, x 206, or via email at marelisa_rivera@fws.gov.

SUPPLEMENTARY INFORMATION:

Background

Section 9 of the Act (16 U.S.C. 1531 et seq.) and our implementing Federal regulations in the Code of Federal Regulations (CFR) at 50 CFR 17 prohibit the “take” of fish or wildlife species listed as endangered or threatened. Take of listed fish or wildlife is defined under the Act as “to harass, harm, pursue, hunt, shoot, wound, kill, trap, capture, or collect, or to attempt to engage in any such conduct” (16 U.S.C. 1532). However, under limited circumstances, we issue permits to authorize incidental take—i.e., take that is incidental to, and not the purpose of, the carrying out of an otherwise lawful activity. Regulations governing incidental take permits for threatened and endangered species are at 50 CFR 17.32 and 17.22, respectively. The Act's take prohibitions do not apply to federally listed plants on private lands unless such take would violate State law. In addition to meeting other criteria, an incidental take permit's proposed actions must not jeopardize the existence of federally listed fish, wildlife, or plants.

Applicant's Proposal

The Palmas Home Owners Association is proposing to renew and amend its existing HCP. They will be adding the following five new residential development areas to the HCP: Marbella Club, Solera, the Beach Club, Palmas Dorada, and Plaza del Mar. For the past 10 years, Palmas del Mar has had an ongoing sea turtle monitoring and conservation program, implemented sea turtle-friendly lighting in the existing developments, planted vegetation screens, and implemented avoidance and minimization measures during beach cleaning activities. These activities will continue and will be extended to the five new areas.

Our Preliminary Determination

The Service has made a preliminary determination that the applicant's project, including the mitigation measures, will individually and cumulatively have a minor or negligible effect on the species covered in the HCP. Therefore, our proposed issuance of the requested incidental take permit qualifies as a categorical exclusion under the National Environmental Policy Act, as provided by Department of the Interior implementing regulations in part 46 of title 43 of the Code of Federal Regulations (43 CFR 46.205, 46.210, and 46.215). We base our preliminary determination that issuance of the ITP qualifies as a low-effect action on the following three criteria: (1) This is a renewal of an existing project, and implementation of the project would result in minor or negligible effects on federally listed, proposed, and candidate species and their habitats; (2) Implementation of the project would result in minor or negligible effects on other environmental values or resources; and (3) Impacts of the project, considered together with the impacts of other past, present, and reasonably foreseeable similarly situated projects, would not result, over time, in cumulative effects to environmental values or resources that would be considered significant. This preliminary determination may be revised based on our review of public comments that we receive in response to this notice.

Next Steps

We will evaluate the HCP and comments we receive to determine whether the ITP application meets the requirements of section 10(a) of the Act (16 U.S.C. 1531 et seq.). If we determine that the application meets these requirements, we will issue ITP # TE85455B-0. We will also evaluate whether issuance of the section 10(a)(1)(B) ITP complies with section 7 of the Act by conducting an intra-Service section 7 consultation. We will use the results of this consultation, in combination with the above findings, in our final analysis to determine whether or not to issue the ITP. If the requirements are met, we will issue the permit to the applicant.

Public Comments

If you wish to comment on the permit application, HCP, and associated documents, you may submit comments by any one of the methods in ADDRESSES.

Public Availability of Comments

Before including your address, phone number, email address, or other personal identifying information in your comments, you should be aware that your entire comment—including your personal identifying information—may be made publicly available at any time. While you can ask us in your comment to withhold your personal identifying information from public review, we cannot guarantee that we will be able to do so.

Authority

We provide this notice under Section 10 of the Act and NEPA regulations (40 CFR 1506.6).

Edwin E. Muñiz,
Field Supervisor, Caribbean Ecological Services Field Office, Southeast Region.

[FR Doc. 2016-06652 Filed 3-23-16; 8:45 am]

BILLING CODE 4333-15-P